DEPARTMENT OF EDUCATION

Privacy Act of 1974; System of Records—Common Services for Borrowers

AGENCY: Federal Student Aid, Department of Education.

ACTION: Notice of a new system of records.

SUMMARY: In accordance with the Privacy Act of 1974, as amended, (Privacy Act), the Chief Operating Officer for Federal Student Aid of the U.S. Department of Education (Department) publishes this notice of a new system of records entitled the Common Services for Borrowers (CSB) system (18-11-16). Over the next three to four years, the Department will consolidate the activities it carries out with regard to making and servicing loans, and collecting or otherwise resolving obligations owed by an individual with respect to a loan, grant, or scholarship program authorized by the Higher Education Act of 1965, as amended (HEA). The CSB system will contain records of an individual's loan, grant, or scholarship and of transactions performed by the Department to carry out these activities. Because many of these records are currently maintained in the systems of records entitled Title IV Program Files (18-11-05) and Student Financial Assistance Collection Files (18-11-07), the Department will delete these other systems of records after it has fully phased into the new CSB system of records all of the records that are currently maintained in these systems of records. The Department seeks comment on the proposed system of records described in this notice, in accordance with the requirements of the Privacy Act.

DATES: We must receive your comments on the proposed routine uses for the system of records described in this notice on or before February 22, 2006.

The Department has filed a report describing the new system of records covered by this notice with the Chair of the Senate Committee on Homeland Security and Governmental Affairs, the Chair of the House Committee on Government Reform, and the Administrator of the Office of Information and Regulatory Affairs, Office of Management and Budget (OMB) on January 18, 2006. This new system of records will become effective on the later date of: (1) the expiration of the 40-day period for OMB review on February 27, 2006; or (2) February 22, 2006, unless the system of records needs to be changed as a result of public comment or OMB review.

ADDRESSES: Address all comments about the proposed routine uses to Patricia Dorn, Chief of Staff, Borrower Services, Federal Student Aid, U.S. Department of Education, 830 First Street, NE., Union Center Plaza, room 42G4, Washington, DC 20202-5345. If you prefer to send comments through the Internet, use the following address: CSBSystemofRecords@ed.gov.

You must include the term “Common Services for Borrowers” in the subject line of your electronic message.

During and after the comment period, you may inspect all public comments about this notice in room 42H1, 4th Floor, 830 First Street, NE., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Patricia Dorn, Chief of Staff, Borrower Services, Federal Student Aid, U.S. Department of Education, Union Center Plaza, 4th Floor, 830 First Street, NE., Washington, DC 20202-5345. Telephone number: (202) 377-4359. If you use a telecommunications device for the deaf (TDD), you may call the Federal Relay Service (FRS) at 1-800-877-8339.

Individuals with disabilities may obtain this document in an alternative format (e.g., Braille, large print, audiotape, or computer diskette) on request to the contact person listed in the preceding paragraph.

SUPPLEMENTARY INFORMATION:

Introduction

The Privacy Act (5 U.S.C. 552a(e)(4)) requires the Department to publish in the Federal Register this notice of a new system of records maintained by the Department. The Department's regulations implementing the Privacy Act are contained in part 5b of title 34 of the Code of Federal Regulations (CFR).

The Privacy Act applies to information about individuals that is maintained in a system of records from which individually identifiable information is retrieved by a unique identifier associated with each individual, such as a name or social security number. The information about each individual is called a “record,” and the system, whether manual or computer-based, is called a “system of records.” The Privacy Act requires each agency to publish notices of new or altered systems of records in the Federal Register and to submit reports to the Administrator of the Office of Information and Regulatory Affairs, OMB, the Chair of the House Committee on Government Reform, and the Chair of the Senate Committee on Homeland Security and Governmental Affairs, whenever the agency publishes a new or altered system of records.

Electronic Access to This Document

You may view this document, as well as all other documents of this Department published in the Federal Register, in text or Adobe Portable Document Format (PDF) on the Internet at the following site: http://www.ed.gov/news/fedregister.

To use PDF you must have the Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 18, 2006.
Theresa S. Shaw,
Chief Operating Officer, Federal Student Aid.

For the reasons discussed in the preamble, the Chief Operating Officer, Federal Student Aid, U.S. Department of Education publishes a notice of the Common Services for Borrowers system of records to read as follows:

System Number: 18-11-16

System Name:

Common Services for Borrowers (CSB).

Security Classification:

None.

System Location:

Computer Sciences Corporation, 17 Deerfield Lane, Meriden, CT 06450.

See the Appendix to this notice for additional system locations.

Categories of Individuals Covered by the System:

This system contains records on those individuals who received a loan, or who are otherwise obligated to repay a loan, grant, or scholarship held and collected by the Department of Education (Department), which was made under (1) the Federal Family Education Loan (FFEL) Program (formerly the Guaranteed Student Loan Program (GSL), including Stafford Loans, Federal Insured Student Loans (FISL), Supplemental Loans for Students (SLS), PLUS Loans (formerly Parental Loans for Undergraduate Students), and Consolidation Loans); (2) the William D. Ford Federal Direct Loan (Direct Loan) Program (formerly known as the Federal Direct Student Loan Program (FDSLP), Federal Direct Unsubsidized and Subsidized Stafford/Ford Loans, Federal Direct Consolidation Loans, and Federal Direct PLUS Loans); (3) the Federal Perkins Loan Program (formerly known as National Direct/Defense Student Loans (NDSL)); (4) the Federal Pell Grant Program; (5) the Federal Supplemental Educational Opportunity Grant Program (FSEOG); (6) the Leveraging Educational Assistance Partnership (LEAP) Program; (7) the Special Leveraging Educational Assistance Partnership (SLEAP) Program; (8) the Paul Douglas Teacher Scholarship Program; and (9) the Teacher Quality Recruitment Scholarship Program. This system also contains records on individuals who apply for, but do not receive a Direct Loan, as well as individuals identified by the borrower or recipient of the loan, grant, or scholarship as references or as household members whose income and expenses are considered in connection with the making or enforcement of the grant, scholarship or loan.

Categories of Records in the System:

This system of records will consolidate the system of records for all activities the Department carries out with regard to making and servicing loans, including collecting or otherwise resolving obligations owed by an individual under the Higher Education Act of 1965, as amended (HEA). The system contains records including such information as the employment information, educational status, family income, social security number, address, e-mail address, and telephone numbers of those individuals obligated on the debt or whose income and expenses are included in a financial statement submitted by the individual. This system also contains records regarding the application for, agreement to repay, and disbursements on the loan, and loan guaranty, if any; the repayment history, including deferments and forbearances; claims by lenders on the loan guaranty; cancellation or discharges on grounds of qualifying service, bankruptcy discharge, disability (including medical records submitted to support application for discharge by reason of disability), death, or other statutory or regulatory grounds for relief.

Additionally, this system contains records regarding the amount, terms, and period of scholarships, the entity that awarded the scholarship, the amount and percentage of time the recipient spends teaching, and information about the employing school and the school district. For grant overpayments, the system contains records about the amount disbursed, the school that disbursed the grant, and the basis for overpayment; for all debts, the system contains demographic, employment, and other data on the individuals obligated on the debt or provided as references by the obligor, and the collection actions taken by any holder, including write-off and compromise.

Authority for Maintenance of the System:

Titles II, IV-A, IV-B, IV-D, IV-E and V-C of the HEA (20 U.S.C. 1024, 1070a, 1070b-1070b-4, 1070c-1070c-4, 1070c-3a, 1071-1087-4, 1087a-1087j, and 1087aa-1087ii, and 1104 (1998); 31 U.S.C. Chapter 37).

Purpose(s):

The information contained in the records maintained in this system is used for the following reasons:

• To verify the identity of an individual.

• To determine program eligibility and benefits.

• To facilitate default reduction efforts by program participants.

• To enforce the conditions or terms of a loan, grant, or scholarship.

• To make, service, collect, assign, adjust, or discharge a loan or collect a grant or scholarship obligation.

• To counsel a debtor in repayment efforts.

• To investigate possible fraud and verify compliance with program regulations.

• To locate a delinquent or defaulted borrower, or an individual obligated to repay a loan, grant, or scholarship.

• To prepare a debt for litigation, provide support services for litigation on a debt, litigate a debt, and audit the results of litigation on a debt.

• To prepare for, conduct, or enforce a limitation, suspension, termination, or debarment action.

• To ensure that program requirements are met by educational and financial institutions and guaranty agencies.

• To verify whether a debt qualifies for discharge or cancellation.

• To conduct credit checks and respond to inquiries or disputes arising from information on the debt already furnished to a credit-reporting agency.

• To investigate complaints, update information, and correct errors contained in Department records.

• To refund credit balances back to the individual or loan holder.

Routine Uses of Records Maintained in the System, Including Categories of Users and the Purposes of Such Uses:

The Department may disclose information contained in a record in this system of records under the routine uses listed in this system of records without the consent of the individual if the disclosure is compatible with the purposes for which the information in the record was collected. These disclosures may be made on a case-by-case basis or, if the Department has complied with the computer matching requirements of the Privacy Act, under computer matching agreements.

(1) Program Disclosures. The Department may disclose records for the following program purposes:

(a) To verify the identity of the individual whom the records indicate has applied for or received the loan, grant, or scholarship, disclosures may be made to guaranty agencies, educational and financial institutions, and to their authorized representatives; to Federal, State, or local agencies; to private parties such as relatives, business and personal associates, and present and former employers; to creditors; to consumer reporting agencies; to adjudicative bodies; and to the individual whom the records identify as the party obligated to repay the debt.

(b) To determine program eligibility and benefits, disclosures may be made to guaranty agencies, educational and financial institutions, and to their authorized representatives; to Federal, State, or local agencies; to private parties such as relatives, business and personal associates, and present and former employers; to creditors; to consumer reporting agencies; and to adjudicative bodies.

(c) To facilitate default reduction efforts by program participants, disclosures may be made to guaranty agencies, educational and financial institutions, and to their authorized representatives; to Federal, State, or local agencies; to consumer reporting agencies; and to adjudicative bodies.

(d) To enforce the conditions or terms of the loan, grant or scholarship, disclosures may be made to guaranty agencies, educational and financial institutions, and to their authorized representatives; to Federal, State, or local agencies; to private parties such as relatives, business and personal associates, and present and former employers; to creditors; to consumer reporting agencies; and to adjudicative bodies.

(e) To permit making, servicing, collecting, assigning, adjusting, or discharging a loan, or collecting a grant or scholarship obligation, disclosures may be made to guaranty agencies, educational institutions, or financial institutions that made, held, serviced, or have been assigned the debt, and to their authorized representatives; to a party identified by the debtor as willing to advance funds to repay the debt; to Federal, State, or local agencies; to private parties such as relatives, business and personal associates, and present and former employers; to creditors; to consumer reporting agencies; and to adjudicative bodies.

(f) To counsel a debtor in repayment efforts, disclosures may be made to guaranty agencies, educational and financial institutions, and to their authorized representatives; and to Federal, State, or local agencies.

(g) To investigate possible fraud and verify compliance with program regulations, disclosures may be made to guaranty agencies, educational and financial institutions, and their authorized representatives; to Federal, State, or local agencies; to private parties such as relatives, present and former employers and creditors, and business and personal associates; to consumer reporting agencies; and to adjudicative bodies.

(h) To locate a delinquent or defaulted borrower, or an individual obligated to repay a loan, grant or scholarship, disclosures may be made to guaranty agencies, educational and financial institutions, and to their authorized representatives; to Federal, State, or local agencies; to private parties such as relatives, business and personal associates, and present and former employers; to creditors; to consumer reporting agencies; and to adjudicative bodies.

(i) To prepare a debt for litigation, to provide support services for litigation on a debt, to litigate a debt, and to audit the results of litigation on a debt, disclosures may be made to guaranty agencies and their authorized representatives; to Federal, State, or local agencies; and to adjudicative bodies.

(j) To prepare for, conduct, or enforce a limitation, suspension, and termination (LS&T) or a debarment action, disclosures may be made to guaranty agencies, educational or financial institutions, and to their authorized representatives; to Federal, State, or local agencies; and to adjudicative bodies.

(k) To ensure that HEA program requirements are met by educational institutions, financial institutions, and guaranty agencies, disclosures may be made to guaranty agencies, educational or financial institutions, to their authorized representatives, and to auditors engaged to conduct an audit of a guaranty agency or an educational or financial institution; to Federal, State, or local agencies or accrediting agencies; and to adjudicative bodies.

(l) To verify whether a debt qualifies for discharge or cancellation, disclosures may be made to guaranty agencies, educational and financial institutions, and to their authorized representatives; to Federal, State, or local agencies; to private parties such as relatives, present and former employers and creditors, and business and personal associates; to consumer reporting agencies; and to adjudicative bodies.

(m) To conduct credit checks and to respond to inquiries or disputes arising from information on the debt already furnished to a credit reporting agency, disclosures may be made to credit reporting agencies; to guaranty agencies, educational and financial institutions, and to their authorized representatives; to Federal, State, or local agencies; to private parties such as relatives, present and former employers and creditors, and business and personal associates; and to adjudicative bodies.

(n) To investigate complaints, to update information and correct errors contained in Department records, disclosures may be made to guaranty agencies, educational and financial institutions, and to their authorized representatives; to Federal, State, or local agencies; to private parties such as relatives, present and former employers and creditors, and business and personal associates; to credit reporting agencies; and to adjudicative bodies.

(o) To refund credit balances that are processed through the Department's systems, as well as the Department of Treasury's payment applications, back to the individual or loan holder, disclosures may be made to guaranty agencies, educational and financial institutions, and to their authorized representatives; to Federal, State, or local agencies; and to private parties such as relatives, present and former employers and creditors, and business and personal associates.

(2) Feasibility Study Disclosure. The Department may disclose information from this system of records to other Federal agencies and to guaranty agencies, and to their authorized representatives, to determine whether computer matching programs should be conducted by the Department regarding an individual's application for student financial assistance or compliance with the terms of such assistance, under a program administered by the Department. These computer matching programs may be used to determine program eligibility and benefits, facilitate default reduction efforts, enforce the conditions and terms of a loan or grant, permit the servicing and collecting of the loan or grant, enforce debarment, suspension, and exclusionary actions, counsel the individual in repayment efforts, investigate possible fraud and verify compliance with program regulations, locate a delinquent or defaulted debtor, and initiate legal action against an individual involved in program fraud or abuse.

(3) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(4) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, executive order, rule, regulation, or order issued pursuant thereto.

(5) Litigation and Alternative Dispute Resolution (ADR) Disclosure.

(a) Introduction. In the event that one of the parties listed below is involved in litigation or ADR, or has an interest in litigation or ADR, the Department may disclose certain records to the parties described in paragraphs (b), (c) and (d) of this routine use under the conditions specified in those paragraphs:

(i) The Department or any of its components; or

(ii) Any Department employee in his or her official capacity; or

(iii) Any Department employee in his or her individual capacity if the Department of Justice (DOJ) has been requested to or has agreed to provide or arrange for representation for the employee;

(iv) Any Department employee in his or her individual capacity where the Department has agreed to represent the employee; or

(v) The United States where the Department determines that the litigation is likely to affect the Department or any of its components.

(b) Disclosure to the DOJ. If the Department determines that disclosure of certain records to the DOJ is relevant and necessary to litigation or ADR, the Department may disclose those records as a routine use to the DOJ.

(c) Adjudicative Disclosure. If the Department determines that disclosure of certain records to an adjudicative body before which the Department is authorized to appear, an individual, or an entity designated by the Department or otherwise empowered to resolve or mediate disputes is relevant and necessary to the litigation or ADR, the Department may disclose those records as a routine use to the adjudicative body, individual, or entity.

(d) Parties, Counsels, Representatives, or Witnesses. If the Department determines that disclosure of certain records to a party, counsel, representative or witness is relevant and necessary to the litigation or ADR, the Department may disclose those records as a routine use to the party, counsel, representative, or witness.

(6) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(7) Employee Grievance, Complaint or Conduct Disclosure. If a record is relevant and necessary to an employee grievance, complaint, or disciplinary action, the Department may disclose the record in the course of investigation, fact-finding, or adjudication to any witness, designated fact-finder, mediator, or other person designated to resolve issues or decide the matter.

(8) Labor Organization Disclosure. The Department may disclose a record from this system of records to an arbitrator to resolve disputes under a negotiated grievance procedure or to officials of a labor organization recognized under 5 U.S.C. Chapter 71 when relevant and necessary to their duties of exclusive representation.

(9) Freedom of Information Act (FOIA) Advice Disclosure. The Department may disclose records to the DOJ and the OMB if the Department concludes that disclosure is desirable or necessary in determining whether particular records are required to be disclosed under the FOIA.

(10) Disclosure to the DOJ. The Department may disclose records to the DOJ to the extent necessary for obtaining DOJ advice on any matter relevant to an audit, inspection, or other inquiry related to the programs covered by this system.

(11) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(12) Research Disclosure. The Department may disclose records to a researcher if the Chief of Staff of Borrower Services of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(13) Congressional Member Disclosure. The Department may disclose the records of an individual to a member of Congress and his/her staff in response to an inquiry from the member made at the written request of that individual. The member's right to the information is no greater than the right of the individual who requested the inquiry.

(14) Disclosure to OMB for Credit Reform Act (CRA) Support. The Department may disclose records to OMB as necessary to fulfill CRA requirements.

Disclosure to Consumer Reporting Agencies:

Pursuant to 5 U.S.C. 552a(b)(12), the Department may disclose to a consumer reporting agency information regarding a claim by the Department that is determined to be valid and overdue; such information is limited to: (1) The name, address, taxpayer identification number, and other information necessary to establish the identity of the individual responsible for the claim; (2) the amount, status, and history of the claim; and (3) the program under which the claim arose. The Department may disclose the information specified in this paragraph under 5 U.S.C. 552a(b)(12) and the procedures contained in 31 U.S.C. 3711(e). A consumer reporting agency to which these disclosures may be made is defined in 31 U.S.C. 3701(a)(3).

Policies and Practices for Storing, Retrieving, Accessing, Retaining, and Disposing of Records in the System:

Storage:

The records are maintained in hardcopy, microfilm, magnetic storage and optical storage media, such as tape, disk, etc.

Retrievability:

Records in this system are retrievable by social security number or name of the borrower.

Safeguards:

All physical access to the Department's site, and the sites of the Department's contractors where this system of records is maintained, is controlled and monitored by security personnel who check each individual entering the building for his or her employee or visitor badge.

In accordance with the Department's Administrative Communications System Directive OM: 5-101 entitled “Contractor Employee Personnel Security Screenings,” all contract and Department personnel who have facility access and system access are required to undergo a security clearance investigation. Individuals requiring access to Privacy Act data are required to hold, at a minimum, a moderate-risk security clearance level. These individuals are required to undergo periodic screening at five-year intervals.

In addition to conducting security clearances, contract and Department employees are required to complete security awareness training on an annual basis. Annual security awareness training is required to ensure that contract and Department users are appropriately trained in safeguarding Privacy Act data in accordance with OMB Circular No. A-130, Appendix III.

The computer system employed by the Department offers a high degree of resistance to tampering and circumvention. This security system limits data access to Department and contract staff on a “need-to-know” basis, and controls individual users' ability to access and alter records within the system. All users of this system of records are given a unique user identification. The Department's Federal Student Aid Information Security and Privacy Policy requires the enforcement of a complex password policy. In addition to the enforcement of the complex password policy, users are required to change their password at least every 60 to 90 days in accordance with the Department's information technology standards.

At the principal site of the Department's contractor in Meriden, Connecticut, additional physical security measures are in place and access is monitored 24 hours per day, 7 days a week.

Retention and Disposal:

Records are retained for five years after the debt is paid in full or otherwise closed out, and thereafter disposed of.

System Manager and Address:

General Manager, Borrower Services, Federal Student Aid, U.S. Department of Education, 830 First Street, NE., Union Center Plaza, 4th Floor, Washington, DC 20202-5345.

Notification Procedure:

If you wish to determine whether a record exists regarding you in the system of records, provide the system manager with your name, date of birth and social security number. Requests must meet the requirements of the regulations in 34 CFR 5b.5, including proof of identity.

Record Access Procedure:

If you wish to gain access to a record in this system, provide the system manager with your name, date of birth, and social security number. Requests by an individual for access to a record must meet the requirements of the regulations in 34 CFR 5b.5, including proof of identity.

Contesting Record Procedure:

If you wish to change the content of a record regarding you in the system of records, contact the system manager with your name, date of birth, and social security number, identify the specific items to be changed; and provide a written justification for the change. Requests to amend a record must meet the requirements of the regulations in 34 CFR 5b.7.

Record Source Categories:

The system includes information that the Department obtains from applicants and those individuals and their families who received a loan, or who are otherwise obligated to repay, a loan, grant, or scholarship held and collected by the Department. The Department also obtains information from references, guaranty agencies, educational and financial institutions, and their authorized representatives, Federal, State, or local agencies, private parties such as relatives, business and personal associates, and present and former employers; creditors, consumer reporting agencies, and adjudicative bodies.

Exemptions Claimed for the System:

None.

Appendix to 18-11-16 Additional System Locations

Additional System Locations

U.S. Department of Education, 830 First Street, NE., UCP, Washington, DC 20202-5345.

U.S. Department of Education, 50 United Nations Plaza, San Francisco, CA 94102.

U.S. Department of Education, 111 North Canal Street, Chicago, IL 60606.

U.S. Department of Education, 61 Forsyth Street, Atlanta, GA 30303.

Pearson Government Solutions, 3833 Greenway Drive, Lawrence, KS 66046-5441.

Pearson Government Solutions, 2400 Oakdale Boulevard, Coralville, IA 52241.

ACS Education Services, Inc., 501 Bleecker Street, Utica, NY 13501.

ACS Education Services, Inc., 401 34th Street, Bakersfield, CA 93301.

ACS Education Services, Inc., 2277 East 220th Street, Long Beach, CA 90810.

ACS Education Services, Inc., 2505 S. Finley Road, Suite 100, Lombard, IL 60148-4866.

ACS Education Solutions, LLC, 12410 Milestone Center Drive, Germantown, MD 20876.

ACS Education Solutions, LLC, 1 Curie Court, Rockville, MD 20850.

Electronic Data Systems Corporation, 5th Floor, 10100 Linn Station Road, Louisville, KY 40223.

Electronic Data Systems Corporation, 5th Floor, 474 South Court Street, Montgomery, AL 36104.

Raytheon Company, 6201 I-30, Greenville, TX 75403.

Affiliated Computer Services, Inc., 2828 N. Haskell Avenue, Building 5, 2nd Floor, Dallas, TX 75204.

ABR Services, Inc., 14847 Persistence Drive, Woodbridge, VA 22191.

ACS Print and Mail Services (Data Direct), 11475 Reeck Road, Southgate, MI 48195.

EU Services, 649 North Horners Lane, Rockville, MD 20850.

ACS State Healthcare Solutions, 9040 Roswell Road, Suite 700, Atlanta, GA 30350.

[FR Doc. E6-746 Filed 1-20-06; 8:45 am]

BILLING CODE 4000-01-P